DEPARTMENT OF COMMERCE

Foreign-Trade Zones Board

[Docket 55-2010]

Foreign-Trade Zone 169—Manatee County, Florida; Extension of Subzone; Aso LLC (Adhesive Bandage Manufacturing); Sarasota County, FL

An application has been submitted to the Foreign-Trade Zones Board (the Board) by the Manatee County Port Authority, grantee of FTZ 169, requesting to indefinitely extend Subzone 169A, on behalf of Aso LLC (formerly Aso Corporation) (Aso), located in Sarasota County, Florida. The application was submitted pursuant to the provisions of the Foreign-Trade Zones Act, as amended (19 U.S.C. 81a-81u), and the regulations of the Board (15 CFR part 400). It was formally filed on September 23, 2010.

Subzone 169A (229 employees, total annual capacity of 2.2 billion bandage strips per year) was approved by the Board in 2000 for the manufacture of adhesive bandages under FTZ procedures (Board Order 1120, 65 FR 58508-58509, 9/29/2000) for a period of 4 years of activation, subject to extension upon review. Subzone 169A consists of one site (166,000 square feet of enclosed space on 38 acres) located at 300 Sarasota Center Blvd., within the International Trade Industrial Park, east of Sarasota (Sarasota County), Florida. Since approval, the subzone has been activated intermittently since the company has at times instead used various duty suspension provisions on adhesive tape. Aso is now requesting to indefinitely extend its subzone status with manufacturing authority to produce adhesive bandages (HTSUS 3005.10) using foreign-sourced adhesive tape (HTSUS 3919.10), representing some 22 percent of the final product value.

FTZ procedures would exempt Aso from customs duty payments on the foreign adhesive tape used in export production. The company anticipates that some 6 percent of the plant's shipments will be exported. On its domestic sales, Aso would be able to choose the duty rate during customs entry procedures that applies to adhesive bandages (duty-free) for the foreign adhesive tape (duty rate—5.8%) noted above. The request indicates that the savings from FTZ procedures help improve the plant's international competitiveness.

In accordance with the Board's regulations, Diane Finver of the FTZ Staff is designated examiner to evaluate and analyze the facts and information presented in the application and case record and to report findings and recommendations to the Board.

Public comment is invited from interested parties. Submissions (original and 3 copies) shall be addressed to the Board's Executive Secretary at the address below. The closing period for their receipt is November 29, 2010. Rebuttal comments in response to material submitted during the foregoing period may be submitted during the subsequent 15-day period to December 13, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Diane Finver at Diane.Finver@trade.gov or (202) 482-1367.

Dated: September 23, 2010.
Elizabeth Whiteman,
Acting Executive Secretary.

[FR Doc. 2010-24315 Filed 9-27-10; 8:45 am]

BILLING CODE 3510-DS-P